SECURITIES AND EXCHANGE COMMISSION

Sunshine Act Meeting

Notice is hereby given, pursuant to the provisions of the Government in the Sunshine Act, Public Law 94-409, that the Securities and Exchange Commission will hold a roundtable to discuss short sale price tests and short sale circuit breakers generally and in the context of the Commission's recently proposed amendments to Regulation SHO. The roundtable will be held on May 5, 2009 beginning at 10 a.m.

The Roundtable will take place in the Auditorium of the Commission's headquarters at 100 F Street, NE., Washington, DC. The roundtable will be open to the public with seating on a first-come, first-served basis. Doors will open at 9:30 a.m. Visitors will be subject to security checks.

For further information, please contact the Office of the Secretary at (202) 551-5400.

Dated: April 24, 2009.
Elizabeth M. Murphy,
Secretary.

[FR Doc. E9-9879 Filed 4-28-09; 8:45 am]

BILLING CODE P